DEPARTMENT OF ENERGY

Federal Energy Regulatory Commission

[Docket No. CP16-58-000]

Iroquois Gas Transmission System, L.P.; Notice of Application

Take notice that on January 15, 2016, Iroquois Gas Transmission System, L.P. (Iroquois), One Corporate Drive, Shelton, Connecticut 06484, filed an application pursuant to section 7 of the Natural Gas Act and Part 157 of the Commission's regulations for authorization to enter into a payment-in-lieu-of-taxes (PILOT) transaction, including a lease and leaseback arrangement, with the Schoharie County Industrial Development Agency (Agency) in the State of New York. Specifically, Iroquois requests that the Commission (i) grant Iroquois authority to abandon passive leasehold interests in certain jurisdictional facilities located in Schoharie County, New York, by transferring such passive leasehold interests to the Agency; (ii) issue a certificate of public convenience and necessity to Iroquois to simultaneously lease back the leasehold interests from the Agency; and (3) grant Iroquois' request for pre-granted authorization to reacquire the leasehold interests from the Agency at the time the lease/leaseback agreements terminate.

The filing may be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Helen M. Gallagher, Director of Legal Services and Secretary, Iroquois Pipeline Operating Company, One Corporate Drive, Suite 600, Shelton, CT 06484, phone: (203) 925-7201, or email: helen_gallagher@iroquois.com.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission encourages electronic submission of protests and interventions in lieu of paper using the “eFiling” link at http://www.ferc.gov. Persons unable to file electronically should submit an original and 5 copies of the protest or intervention to the Federal Energy Regulatory Commission, 888 First Street NE., Washington, DC 20426.

Comment Date: 5:00 p.m. Eastern Time on February 1, 2016.

Dated: January 21, 2016.
Nathaniel J. Davis, Sr.,
Deputy Secretary.

[FR Doc. 2016-01802 Filed 2-1-16; 8:45 am]

BILLING CODE 6717-01-P